ENVIRONMENTAL PROTECTION AGENCY

[ER-FRL-9006-9]

Environmental Impacts Statements; Notice of Availability

Responsible Agency: Office of Federal Activities, General Information (202) 564-7146 or http://www.epa.gov/compliance/nepa/.

Weekly receipt of Environmental Impact Statements.

Filed 12/24/2012 through 12/28/2012.

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20120402, Draft EIS, FHWA, CA, State Route 58 (SR-58) Hinkley Expressway Project, Grade Separate, Widen, and Realign, San Bernardino County, CA, Comment Period Ends: 02/19/2013, Contact: James Shankel 909-383-6379.

EIS No. 20120403, Draft EIS, FHWA, ID, US-95 Thorncreek Road to Moscow, from Milepost 337.67 to Milepost 344.00, Latah County, ID, Comment Period Ends: 02/22/2013, Contact: John A. Perry 208-334-9180 extension 116.

EIS No. 20120404, Draft EIS, BLM, WA, Vantage to Pomona Heights 230 kV Transmission Line Project, Grant, Brenton, Kittitas, and Yakima Counties, WA, Comment Period Ends: 02/19/2013, Contact: William Schurger 509-665-2100.

EIS No. 20120405, Revised Draft EIS, USACE, LA, Morganza to the Gulf of Mexico, Hurricane and Storm Damage Risk Reduction System Project, Improvements and Changes, Terrebonne Parish and Lafourche Parish, LA, Comment Period Ends: 02/19/2013, Contact: Nathan Dayan 504-862-2530.

EIS No. 20120406, Final EIS, USFWS, DE, Prime Hook National Wildlife Refuge, Development of a Comprehensive Conservation Plan, Milton, DE, Review Period Ends: 02/04/2013, Contact: Thomas Bonetti 413-253-8307.

Amended Notices

EIS No. 20120395, Draft EIS, USFS, SC, AP Loblolly Pine Removal and Restoration Project, Andrew Pickens Ranger District, Sumter National Forest, Oconee County, SC, Comment Period Ends: 02/13/2013, Contact: Victor Wyant 864-638-9568 Revision to FR Notice Published 12/31/2012; Correcting Project State Location from CA to SC.

Dated: December 31, 2012.
Dawn Roberts,
Management Analyst, NEPA Compliance Division, Office of Federal Activities.

[FR Doc. 2012-31744 Filed 1-3-13; 8:45 am]

BILLING CODE 6560-50-P